FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 1, 2007.

A. Federal Reserve Bank of Kansas City (Todd Offenbacker, Assistant Vice President) 925 Grand Avenue, Kansas City, Missouri 64198-0001:

1. Loris D. New Trust, UTA 09-07-93, Loris D. New, Leavenworth, Kansas, trustee; to acquire voting shares of Tonganoxie Bankshares, Inc., and thereby indirectly acquire voting shares of First State Bank and Trust, both in Tonganoxie, Kansas.

In connection with this application, The Damon L. New Trust, UTA 12-12-97, Damon L. New, Leavenworth, Kansas, as trustee and individually; the Jilinda A. White Trust, UTA 12-12-97, Jilinda A. White, Leavenworth, Kansas, as trustee and individually; the Shawnda D. Gilmore Trust, UTA 12-12-97, Shawnda D. Gilmore, Leavenworth, Kansas, as trustee and individually; the Brandon O. New Trust, UTA 12-12-97, Brandon O. New, Leavenworth, Kansas, as trustee and individually, as members of the New Family Group, a group acting in concert; has applied to retain voting shares of Tonganoxie Bankshares, Inc., and thereby indirectly retain voting shares of First State Bank and Trust, both in Tonganoxie, Kansas.

2. Jarrel M. Jones, individually, as a member of the Jarrel M. Jones Family Group, and as trustee of the Jimmy K. and Annahlee Jones Trust for Matthew Howard Franks, the Jimmy K. and Annahlee Jones Trust for Michael James Franks, the Jimmy K. and Annahlee Jones Trust for Mark William Franks, the Jimmy K. and Annahlee Jones Trust for Annahlyn Dawn Jones, the Jimmy K. and Annahlee Jones Trust for Emmie Kathryn Jones, the Jimmy K. and Annahlee Jones Trust for James Ryan Jones, the Jimmy K. and Annahlee Jones Trust for Jeffrey Allen Jones, the Jimmy K. and Annahlee Jones Trust for Laura Janell Jones, the Jimmy K. and Annahlee Jones Trust for Jennifer Lee Jones, the Jimmy K. and Annahlee Jones Trust for James Christopher Jones, the Jimmy K. and Annahlee Jones Trust for James Eric Jones, the Jimmy K. and Annahlee Jones Trust for Jordan Elijah Helmerich, the Jimmy K. and Annahlee Jones Trust for Erica Elicia Helmerich, the Jimmy K. and Annahlee Jones Trust for Jason William Deck, the Jimmy K. and Annahlee Jones Trust for James Bryan Deck, the Jimmy K. and Annahlee Jones Trust for Jessie Anna Deck; James C. Jones, James E. Jones, all of Tulsa, Oklahoma, and Jennifer Lee Carroll, Bixby, Oklahoma, as members of the Jarrel M. Jones Family Group; to acquire voting shares of Triad Bancshares, Inc., and thereby indirectly acquire voting shares of Triad Bank, National Association, both in Tulsa, Oklahoma.

Board of Governors of the Federal Reserve System, October 12, 2007.
Robert deV. Frierson,
Deputy Secretary of the Board.

[FR Doc. E7-20422 Filed 10-16-07; 8:45 am]

BILLING CODE 6210-01-S